DEPARTMENT OF THE INTERIOR

Fish and Wildlife Service

[FWS-R1-R-2011-N210; 1265-0000-10137-S3]

Malheur National Wildlife Refuge, Harney County, OR; Draft Comprehensive Conservation Plan and Draft Environmental Impact Statement

AGENCY: Fish and Wildlife Service, Interior.

ACTION: Notice of availability.

SUMMARY: We, the U.S. Fish and Wildlife Service (Service), announce the availability of a draft comprehensive conservation plan (CCP) and draft environmental impact statement (EIS) for the Malheur National Wildlife Refuge (NWR or refuge), located in Harney County, Oregon, for public review and comment. In the draft CCP and EIS, we describe alternatives, including our preferred alternative, for managing the refuge for the 15 years following approval of the final CCP.

DATES: To ensure consideration, please send your written comments by May 4, 2012.

ADDRESSES: You may submit comments or requests for copies or more information by any of the following methods. You may request hard copies or a CD-ROM of the documents.

Email: FW1PlanningComments@fws.gov. Include “Malheur NWR DCCP/EA” in the subject line.

Fax: Attn: Tim Bodeen, Project Leader, (541) 493-2405.

U.S. Mail: Tim Bodeen, Project Leader, Malheur National Wildlife Refuge, 36391 Sodhouse Lane, Princeton, OR 97221.

Agency Web Site: Download a copy of the document at http://www.fws.gov/pacific/planning.

In-Person Viewing or Pickup: Call (541) 493-2612 to make an appointment (necessary for viewing or pickup only) during regular business hours at Malheur National Wildlife Refuge, 36391 Sodhouse Lane, Princeton, OR 97221.

For more information on locations for viewing the documents, see “Public Availability of Documents” under SUPPLEMENTARY INFORMATION.

FOR FURTHER INFORMATION CONTACT: Tim Bodeen, Project Leader, Malheur National Wildlife Refuge, phone (541) 493-2612.

SUPPLEMENTARY INFORMATION:

Introduction

With this notice, we continue the CCP process for Malheur NWR. We started this process through a notice in the Federal Register (74 FR 31046; June 29, 2009).

Malheur National Wildlife Refuge was established on August 18, 1908, by President Theodore Roosevelt as the Lake Malheur Bird Reservation. The refuge was originally set aside to prevent plume hunters from decimating colonial nesting bird populations. It protected unclaimed lands encompassed by Malheur, Mud, and Harney Lakes “as a preserve and breeding ground for native birds.” The refuge was expanded to include the Blitzen Valley in 1935 and the Double-O Unit in 1941. Refuge purposes include “* * * a refuge and breeding ground for migratory birds and other wild life * * *” and “* * * for use as an inviolate sanctuary, or for any other management purpose, for migratory birds.”

The refuge consists of over 187,000 acres of open water (marsh, river, and stream), wetlands, springs, riparian areas, irrigated meadows and grain fields, and shrub-steppe uplands.

With its abundance of water in an otherwise arid landscape, the refuge attracts a significant portion of the Pacific Flyway's bird population during spring migration. The refuge is named under several flyway and regional bird conservation plans and is designated as an Important Bird Area. Populations of breeding waterfowl and waterbirds on Malheur Lake and other refuge wetlands have dropped substantially compared to historic levels, a decline that is widely attributed to the high populations of non-native common carp now living in the lake and adjacent water bodies.

We announce the availability of the Malheur NWR draft CCP/EIS in accordance with National Environmental Policy Act (NEPA) (40 CFR 1506.6(b)) requirements. We prepared an environmental analysis of impacts, which we included in the draft CCP/EIS.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify compatible wildlife-dependent recreational opportunities available to the public, including opportunities for compatible hunting, fishing, wildlife observation and photography, environmental education and interpretation. We will review and update the CCP at least every 15 years in accordance with the Refuge Administration Act.

CCP Alternatives We Are Considering

We are considering three CCP alternatives for managing the refuge. The draft CCP/EIS provides a full description of each alternative, summarized below.

Alternative 1 (No Action)

Under Alternative 1, the refuge would continue current practices. Malheur, Harney, and Mud Lakes would continue to remain largely unmanaged, allowed to flood and retreat according to annual weather fluctuations, and subject to degradation caused by large carp populations. Other lake and wetland habitats in the Blitzen Valley and Double-O Units would be managed using rotational flooding and dewatering to enhance productivity for waterfowl and to control carp.

Together with the six dams that assist in water diversions, existing fish screens and ladders on the Blitzen River would remain in place. Native fish passage structures, maintenance of existing carp barriers, and riparian vegetative rehabilitation efforts would continue. Additional riverine enhancement would consist of isolated, small-scale, in-stream improvements when resources are available. Much of the carp control effort would continue to be focused on information gathering under this Alternative.

Habitat management in meadows, marshes, and uplands would continue as currently practiced. Current meadow and marsh habitat objectives address the needs of various waterbirds, shorebirds, and waterfowl by providing conditions necessary for nesting, pairing, and migration. Flood irrigation with diversions from the river March 1 through July 25 would continue to be practiced on meadow habitats. Plant litter, which becomes detrimental to some wildlife species needs over time, would continue to be reduced through the use of prescribed burning, haying on or after August 10, and rakebunch grazing occurring on or after September 1. Approximately 40 percent of meadows would continue to be hayed or grazed annually. The current trend of emergent vegetation encroachment into wet meadows would continue due to the favorable conditions that extended flood irrigation creates for common and hybrid cattails.

Public uses, including compatible wildlife observation, photography, interpretation, environmental education, hunting, and fishing would continue with the current facilities and programs in place. No new public use facilities would be developed. Areas currently closed to public access, which include nearly all areas not on the main roads, would remain closed in order to provide sanctuary.

Cultural resources, specifically archaeological resources, would continue to be considered during project planning for all refuge programs. Historic resources would continue to be stabilized and restored as funding becomes available. Paleontological resources would continue to be protected; interpretation of archaeological and historic resources would remain the same.

Alternative 2 (Proposed Action)

Habitat Management: Under Alternative 2, our preferred alternative, the primary focus and top priority would be to improve the aquatic health of lakes and wetlands, primarily through aggressive control of common carp. As turbidity decreases, the submergent vegetation and associated invertebrate species become more abundant, benefitting a variety of waterbirds, waterfowl, and shorebirds.

A variety of assessment and control tools may be used with the aid of partners to strive to meet a reduced carp population objective of 100 pounds per acre in Malheur, Harney, and Mud Lakes.

Under Alternative 2, the refuge would initiate steps toward a comprehensive riverine/wetland rehabilitation plan. As funding becomes available, the refuge would complete necessary assessments and pilot projects. If, during the life of this CCP, our carp threshold objective of 100 pounds per acre is met and maintained, more staff time and resources would be directed to river rehabilitation efforts.

Wetlands and terrestrial habitats would be managed for the life history needs of focal species (identified in the plan), with a strong emphasis on flexibility. Tools would include, but not be limited to, late summer haying and autumn/winter rakebunch grazing in order to meet the foraging needs of early-arriving wildlife species. In the warm growing season, tools would include highly prescriptive grazing, mowing, farming, and extended dewatering to reclaim acres lost to invasive plants, such as common cattail and reed canarygrass, or to rehabilitate communities that have transitioned beyond desired conditions.

Public Uses: Viewing overlooks, elevated viewing platforms, and photography blinds would be upgraded and developed. The refuge would maintain and replant cottonwood trees and other trees and shrubs at six historic sites for rare and incidental passerine habitat, an important part of the viewing experience for advanced birders. Trails would be added; several trails would be upgraded or built to promote accessibility. Docent-led tours would occur approximately monthly at different locations on the refuge, and would include opportunities for guided kayak and canoe tours on Malheur Lake. A stronger emphasis would be placed on modern media for interpretation. The George Benson Memorial Museum would be enhanced, and additional outdoor interpretive panels would be developed and sited. Special events and public presentations by staff and volunteers would be expanded. An outdoor environmental education shelter and learning area at Refuge Headquarters would be built.

Increased vehicle access would be provided under this Alternative. Visitors would be permitted to drive year-round to Krumbo Reservoir. Up to eight outdoor welcome and orientation panels would be provided to guide visitors. Visitor amenities, such as picnic tables, shelters, and vault toilets, would be upgraded and provided in new locations. An enlarged visitor contact station and gift shop at Headquarters and a seasonal contact station at P Ranch would be built to improve contact between visitors and refuge staff and volunteers.

The upland game hunt would open the fourth Saturday of October, approximately 3 weeks earlier than the current program. The northern part of Malheur Lake and the Buena Vista hunt unit would remain open under existing regulations. New waterfowl hunt areas would be provided (approximately doubling or tripling the existing hunt area) by opening a portion of the south-central area of Malheur Lake, adding a new boat launch at headquarters, and by opening the Buena Vista Unit to waterfowl hunting. The season for the new waterfowl hunt units would extend from the fourth Saturday of October to the end of the State waterfowl season. The existing youth hunt would be promoted, and improvements would be made to the Saddle Butte access. In partnership with potential users, the refuge would also support adding accessible facilities for disabled waterfowl hunters in the Buena Vista hunt unit.

Existing fishing opportunities at Krumbo Reservoir, along the upper Blitzen River, the southern portion of East Canal, and Mud and Bridge Creeks would continue, and the expanded vehicle access mentioned above would provide greater accessibility to fishing sites. In addition, the refuge would create a new pedestrian crossing at Bridge Creek and a new late summer bank fishing opportunity on the Blitzen River from Sodhouse Lane to the bridge on the Boat Landing Road. Orientation and information would be added to fishing areas. At Krumbo Reservoir, stocking of triploid rainbow trout would continue, and a genetic introgression study on redband trout conducted.

The Service would pursue a land exchange with BLM to help consolidate land management between the agencies for areas within and immediately adjacent to the Malheur Refuge. The refuge would continue to rely heavily on volunteers, with an emphasis on increasing recruitment and retention.

Cultural and Paleontological Resource Management: These programs would be strengthened by the development, in cooperation with partners, of step-down management plans for historic, archaeological, and paleontological resources. Interpretation of historic sites would be expanded. Opportunities for Native Americans to collect plant materials for traditional uses would be expanded. Monitoring and inventory of archaeological resources would increase.

Sustainable Practices: The refuge would seek to become energy independent and carbon neutral, and would continue to emphasize partnerships to maximize adaptive management.

Inventory and Monitoring: Step-down inventory and monitoring plans would be developed, emphasizing focal species and national monitoring efforts. A geodatabase would be created to track data collected under these plans.

Alternative 3

Habitat Management: Alternative 3 would enact nearly all of the same habitat management practices as Alternative 2. The primary difference is that the refuge would place a co-equal emphasis on both aquatic health (carp control) and completing a comprehensive riverine/wetland rehabilitation plan. The intended eventual outcomes of the riverine plan and implementation actions would be enhanced habitat for native fishes, enhanced water quality within the river, greater floodplain connectivity, and improved extent and quality of riparian habitat. A detailed assessment of the geomorphology, ecology, hydrology, and management function of the Blitzen River would occur for the first 7 years. The next 5 years would be used for implementing and monitoring pilot projects to gain a better understanding of system response to enhancement activities. Using results from the pilot projects, a comprehensive plan would be crafted to guide river rehabilitation efforts. Because the river effort would proceed slowly and would likely not be fully implemented until the end of the 15-year timeframe, no discernible difference would exist between Alternatives 2 and 3 with regard to the management of other wetland and terrestrial habitats within the Blitzen Valley and Double-O Units.

Public Uses: Management under Alternative 3 for compatible wildlife viewing, photography, and welcome and orientation would be similar to Alternative 2, but there would be less emphasis on developed facilities and more emphasis on self-guided and off-trail experiences.

The Blitzen Valley auto tour route (Center Patrol Road) would be seasonally closed to vehicle access (August 15 to the fourth Friday of October in the Buena Vista unit, and August 15 to March 1 in the P Ranch unit) and would be redesigned into two or three year-round shorter auto tour routes. Walk-in free-roam access along the closed portions of the Center Patrol Road and dike tops in both units would be allowed during the periods listed above to provide opportunities for self-guided and off-trail experiences. Vehicle access to Krumbo Reservoir would be seasonal; walk-in access would be allowed November 1 to the fourth Friday of April. Year-round vehicle access would be allowed on the Boat Landing Road near Refuge Headquarters to the Malheur Lake elevated viewing platform. Spur and loop trails of one mile or more and a number of specific viewing facilities such as overlooks and platforms would be added with limited investment. Existing trails would be upgraded to promote accessibility.

The historic Audubon photography blind at Refuge Headquarters Display Pond would be restored. In free-roam areas, temporary photography blinds would be permitted. The refuge would maintain and replant trees and shrubs at four historic sites to provide habitat used by rare and incidental passerines.

The upland game and the waterfowl hunts would be managed as under Alternative 2, except a Buena Vista waterfowl hunt would not be permitted. However, a youth hunt opportunity on the State-designated weekend would be explored for the Double-O unit.

Fishing opportunities and management would be the same as Alternative 2, but less vehicle access to fishing areas compared to Alternative 2 may limit the number of people engaging in this use.

Environmental education, interpretation (including docent-led tours), volunteer programs, potential land exchange with BLM, cultural and paleontological management, energy independence, and inventory and monitoring would be managed the same as under Alternative 2.

Public Availability of Documents

In addition to the information in ADDRESSES, printed copies of the document will be available for review at the following libraries:

• Harney County Library, 80 West “D” Street, Burns, OR 97720.

• Bend Public Library, 601 NW Wall Street, Bend, OR 97701.

Next Steps

After this comment period ends, we will analyze the comments and address them in the final CCP/EIS. A record of decision will follow the final CCP/EIS.

Public Availability of Comments

Before including your address, phone number, email address, or other personal identifying information in your comment, you should be aware that your entire comment—including your personal identifying information—may become publicly available at any time. While you can ask us in your comment to withhold your identifying information from public review, we cannot guarantee that we will be able to do so.

Dated: Nov 8, 2011.
Robyn Thorson,
Regional Director, Pacific Region, Portland, Oregon.

[FR Doc. 2012-5297 Filed 3-2-12; 8:45 am]

BILLING CODE 4310-55-P